DEPARTMENT OF TRANSPORTATION

Federal Aviation Administration

First Meeting: RTCA Tactical Operations Committee (TOC)

AGENCY: Federal Aviation Administration (FAA), U.S. Department of Transportation (DOT).

ACTION: Meeting Notice of RTCA Tactical Operations Committee.

SUMMARY: The FAA is issuing this notice to advise the public of the first meeting of the RTCA Tactical Operations Committee.

DATES: The meeting will be held April 8, 2013 from 10:00 a.m.-3:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 224. The agenda will include the following:

April 8, 2013

• Welcome & Introductions

• Official Statement of Designated Federal Official

• Background on Formation of Committee

• Committee Purpose and Scope Discussion

• Committee Operations

• FAA Taskings Discussion

• FAA Task Groups Discussion

• Anticipated Issues for TOC consideration and action at the next meeting.

• Any Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 12, 2013.
Paige Williams,
Management Analyst, NextGen, Business Operations Group, Federal Aviation Administration.

[FR Doc. 2013-06160 Filed 3-15-13; 8:45 am]

BILLING CODE 4910-13-P